DEPARTMENT OF ENERGY

[Docket Nos. EA-286]

Application To Export Electric Energy; Avista Energy, Inc.

AGENCY: Office of Fossil Energy, DOE.

ACTION: Notice of application.

SUMMARY: Avista Energy, Inc., (Avista Energy) has applied for authority to export electric energy from the United States to Canada, pursuant to section 202(e) of the Federal Power Act.

DATES: Comments, protests or requests to intervene must be submitted on or before March 4, 2004.

ADDRESSES: Comments, protests or requests to intervene should be addressed as follows: Office of Coal & Power Import/Export (FE-27), Office of Fossil Energy, U.S. Department of Energy, 1000 Independence Avenue, SW., Washington, DC 20585-0350 (Fax 202-287-5736).

FOR FURTHER INFORMATION CONTACT: Rosalind Carter (Program Office) 202-586-7983 or Michael Skinker (Program Attorney) 202-586-2793.

SUPPLEMENTARY INFORMATION: Exports of electricity from the United States to a foreign country are regulated and require authorization under section 202(e) of the Federal Power Act (FPA) (16 U.S.C. 824a(e)).

On December 26, 2003, Avista Energy applied to the Office of Fossil Energy of the Department of Energy (DOE) for authority to export electric energy from the United States to Canada. Avista Energy, formally known as WWP Resource Services, Inc., is a majority-owned subsidiary of Avista Capital, Inc., which is a wholly-owned subsidiary of Avista Corp. Avista Energy is incorporated under the laws of the State of Washington, with its principal place of business in Spokane, Washington. Avista Energy engages in the marketing and trading of electricity and natural gas and is authorized by the Federal Energy Regulatory Commission (FERC) to make market based sales of electric power. Avista Energy has the exclusive right to market the entire output of a combined-cycle generating facilitiy located in Rathdrum, Idaho. However, Avista Energy has no franchised electric power service territory and does not own or operate any generation, transmission, or distribution facilities.

All of the electric energy and capacity that Avista Energy proposes to export in FE Docket No. EA-286 will be purchased from electric utilities and Federal power marketing agencies within the United States. Avista Energy will arrange for the delivery of those exports to Canada over the international transmission facilities owned by Bonneville Power Administration. The construction of these international transmission facilities has previously been authorized by a Presidential permit issued pursuant to Executive Order 10485, as amended.

In FE Order No. EA-98-I, Avista Energy was granted the authority to export electric energy to British Columbia Hydro or other future Canadian members of the Western Systems Power Pool (WSPP). In this proceeding, Avista Energy is seeking separate authority to export electric energy to Canadian entities that are not members of WSPP.

Procedural Matters: Any person desiring to become a party to this proceeding or to be heard by filing comments or protests to this application should file a petition to intervene, comment, or protest at the address provided above in accordance with §§ 385.211 or 385.214 of the FERC's rules of practice and procedures (18 CFR 385.211, 385.214). Fifteen copies of each petition and protest should be filed with the DOE on or before the date listed above.

Comments on the Avista Energy application to export electric energy to Canada should be clearly marked with Docket EA-286. Additional copies are to be filed directly with R. Blair Strong, Paine, Hamblen, Coffin, Brooke & Miller LLP., 717 West Sprague Avenue, Suite 1200, Spokane, Washington 99201-3505, and Dave Dickson, Vice President Energy Trading and Marketing, Avista Energy, Inc., 201 W. North River Drive, Suite 610, Spokane, WA 99201.

A final decision will be made on this application after the environmental impact has been evaluated pursuant to the National Environmental Policy Act of 1969, and a determination is made by the DOE that the proposed action will not adversely impact on the reliability of the U.S. electric power supply system.

Copies of this application will be made available, upon request, for public inspection and copying at the address provided above or by accessing the Fossil Energy home page at http://www.fe.doe.gov. Upon reaching the Fossil Energy home page, select “Electricity Regulation,” and then “Pending Proceedings” from the options menus.

Issued in Washington, DC on January 27, 2004.
Anthony Como,
Deputy Director, Electric Power Regulation, Office of Coal & Power Import/Export, Office of Coal & Power Systems, Office of Fossil Energy.

[FR Doc. 04-2119 Filed 2-2-04; 8:45 am]

BILLING CODE 6450-01-P